DEPARTMENT OF TRANSPORTATION

Federal Aviation Administration

14 CFR Part 71

[Docket No. FAA-2008-0003; Airspace Docket No. 08-ASW-1]

Establishment of Class E Airspace; Lexington, OK

AGENCY: Federal Aviation Administration (FAA), DOT.

ACTION: Direct final rule; request for comments.

SUMMARY: This action establishes Class E airspace at Lexington, OK. New Area Navigation (RNAV) Global Positioning System (GPS) Standard Instrument Approach Procedures (SIAPs) at Muldrow Army Heliport make this action necessary. This action will enhance the safety and management of Instrument Flight Rules (JFR) aircraft operations at Muldrow Army Heliport, Lexington, OK.

DATES: Effective Dates: 0901 UTC September 25, 2008. Comments for inclusion in the rules Docket must be received September 22, 2008. The Director of the Federal Register approves this incorporation by reference action under Title 1, Code of Federal Regulations, part 51, subject to the annual revision of FAA Order 7400.9 and publication of conforming amendments.

ADDRESSES: Send comments on this direct final rule to the U.S. Department of Transportation, Docket Operations, 1200 New Jersey Avenue, SE., West Building Ground Floor, Room W12-140, Washington, DC 20590-0001. You must identify the docket number FAA-2008-0003/Airspace Docket No. 08-ASW-1, at the beginning of your comments. You may also submit comments through the Internet at http://regulations.gov. You may review the public docket containing the direct final rule, any comments received, and any final disposition in person in the Dockets Office between 9 a.m. and 5 p.m., Monday through Friday, except Federal holidays. The Docket Office, telephone number 1-800-647-5527, is on the ground floor of the building at the above address.

FOR FURTHER INFORMATION CONTACT: Gary Mallett, NISC Contractor, Operations Support Group, ATO Central Service Center, Federal Aviation Administration, Southwest Region, Fort Worth, Texas 76193-0530; at telephone number (817) 222-4949.

SUPPLEMENTARY INFORMATION:

The Direct Final Rule Procedure

The FAA anticipates that this regulation will not result in adverse or negative comments, and, therefore, issues it as a direct final rule. Unless a written adverse or negative comment or a written notice of intent to submit an adverse or negative comment is received within the comment period, the regulation will become effective on the date specified above. After the close of the comment period, the FAA will publish a document in the Federal Register indicating that no adverse or negative comments were received and confirming the effective date of the rule. If the FAA receives, within the comment period, an adverse or negative comment, or written comment notice of intent to submit such a comment, a document withdrawing the direct final rule will be published in the Federal Register, and a notice of proposed rulemaking may be published with a new comment period.

Comments Invited

Although this action is in the form of a direct final rule, and was not preceded by a notice of proposed rulemaking, interested persons are invited to comment on this rule by submitting such written data, views, or arguments as they may desire. Comments that provide the factual basis supporting the views and suggestions presented are particularly helpful in developing reasoned regulatory decisions on the direct final rule. Comments are specifically invited on the overall regulatory, aeronautical, economic, environmental, and energy-related aspects of the direct final rule. Commenters wishing the FAA to acknowledge receipt of their comments on this rule must submit with those comments a self-addressed, stamped postcard on which the following statement is made: “Comments to Docket No. FAA-2008-0003, Airspace Docket No. 08-ASW-1.” The postcard will be date/time stamped and returned to the commenter. Communications should identify both docket numbers and be submitted in triplicate to the address specified under the caption ADDRESSES above or through the Web site. All communications received on or before the closing date for comments will be considered, and this rule may be amended or withdrawn in light of the comments received.

The Rule

This amendment to Title 14, Code of Federal Regulations (14 CFR) Part 71 establishes Class E airspace at Lexington, OK, providing the airspace required to support the new 175° Copter RNAV (GPS) approach developed for IFR landings at Muldrow Army Heliport. Controlled airspace extending upward from the surface is required to encompass all SIAPs and for the safety of IFR operations at Muldrow Army Heliport. Designations for Class E airspace areas extending upward from the surface of the earth are published in the FAA Order 7400.9R, signed August 15, 2007 and effective September 15, 2007, which is incorporated by reference in 14 CFR 71.1. Class E designations listed in this document will be published subsequently in the Order.

Agency Findings

The regulations adopted herein will not have substantial direct effects on the States, on the relationship between the national government and the States, or on the distribution of power and responsibilities among various levels of government. Therefore, it is determined that this final rule does not have federalism implication under Executive Order 13132.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal since this is a routine matter that will only affect air traffic procedures and air navigation. It is certified that this rule, when promulgated, will not have a significant economic impact on a substantial number of small entities under the criteria of the Regulatory Flexibility Act.

The FAA's authority to issue rules regarding aviation safety is found in Title 49, of the United States Code. Subtitle I, Section 106 describes the authority of the FAA Administrator. Subtitle VII, Aviation Programs, describes in more detail the scope of the agency's authority.

This rulemaking is promulgated under the authority described in subtitle VII, Part A, subpart I, section 40103. Under that section, the FAA is charged with prescribing regulations to assign the use of airspace necessary to ensure the safety of aircraft and the efficient use of airspace. This regulation is within the scope of that authority as it establishes Class E airspace at Muldrow Army Heliport, Lexington, OK.

List of Subjects in 14 CFR Part 71

Airspace, Incorporation by reference, Navigation (Air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p 389.

§ 71.1 [Amended]

2. The incorporation by reference in 14 CFR 71.1 of Federal Aviation Administration Order 7400.9R, Airspace Designation and Reporting Points, signed August 15, 2007, and effective September 15, 2007, is amended as follows:

Paragraph 6002 Class E2 airspace areas extending upward from the surface of the earth.

* * * * *

ASW OK E2 Lexington, OK [New]

Muldrow Army Heliport, OK

(Lat. 35°01′35″ N., long. 97°13′54″ W.)

Muldrow NDB

(Lat. 35°01′44″ N., long. 97°13′50″ W.)

That airspace extending upward from the surface to and including 3,600 feet above mean sea level (MSL) within a 3.7-mile radius of the Muldrow Army Heliport and within 3 miles each side of the 355° bearing from the Muldrow NDB extending from the 3.7-mile radius of the heliport to 6.8 miles north of the heliport.

* * * * *

Issued in Fort Worth, TX, on July 3, 2008.
Richard H. Farrell, III,
Acting Manager, Operations Support Group, ATO Central Service Center.

[FR Doc. E8-17560 Filed 8-5-08; 8:45 am]

BILLING CODE 4910-13-M